DEPARTMENT OF ENERGY

Federal Energy Regulatory Commission

Combined Notice of Filings #1

Take notice that the Commission received the following electric rate filings:

Docket Numbers: ER11-2765-005.

Applicants: Elk Wind Energy LLC.

Description: Compliance filing: Elk Wind Energy MBR Tariff Update to be effective 2/12/2020.

Filed Date: 2/12/20.

Accession Number: 20200212-5059.

Comments Due: 5 p.m. ET 3/4/20.

Docket Numbers: ER11-2765-006; ER12-1739-006.

Applicants: Elk Wind Energy LLC, Bethel Wind Energy LLC.

Description: Notice of Non-Material Change in Status of Elk Wind Energy LLC, et al.

Filed Date: 2/12/20.

Accession Number: 20200212-5094.

Comments Due: 5 p.m. ET 3/4/20.

Docket Numbers: ER12-1739-005.

Applicants: Bethel Wind Energy LLC.

Description: Compliance filing: Bethel Wind Energy Market-Based Rate Tariff Update to be effective 2/12/2020.

Filed Date: 2/12/20.

Accession Number: 20200212-5056.

Comments Due: 5 p.m. ET 3/4/20.

Docket Numbers: ER20-680-001.

Applicants: AEP Texas Inc.

Description: Tariff Amendment: SA682 AEPTX-Taylor EC-Golden Spread EC Interconnection Agr 4th A&R-Amend Pending to be effective 12/4/2019.

Filed Date: 2/11/20.

Accession Number: 20200211-5159.

Comments Due: 5 p.m. ET 3/3/20.

Docket Numbers: ER20-975-000.

Applicants: Crowned Ridge Wind II, LLC.

Description: Baseline eTariff Filing: Crowned Ridge Wind II, LLC Application for MBR Authority to be effective 4/12/2020.

Filed Date: 2/11/20.

Accession Number: 20200211-5153.

Comments Due: 5 p.m. ET 3/3/20.

Docket Numbers: ER20-976-000.

Applicants: PJM Interconnection, L.L.C.

Description: Tariff Cancellation: Notice of Cancellation of ISA, Service Agreement No. 4280, Non-Queue #NQ133 to be effective 4/22/2020.

Filed Date: 2/12/20.

Accession Number: 20200212-5010.

Comments Due: 5 p.m. ET 3/4/20.

Docket Numbers: ER20-977-000.

Applicants: PJM Interconnection, L.L.C.

Description: § 205(d) Rate Filing: Original WMPA SA No. 5586; Queue No. AE1-175 to be effective 1/15/2020.

Filed Date: 2/12/20.

Accession Number: 20200212-5026.

Comments Due: 5 p.m. ET 3/4/20.

Docket Numbers: ER20-978-000.

Applicants: Arizona Public Service Company.

Description: Tariff Cancellation: Cancellation of Service Agreement No. 370 to be effective 4/13/2020.

Filed Date: 2/12/20.

Accession Number: 20200212-5030.

Comments Due: 5 p.m. ET 3/4/20.

Docket Numbers: ER20-979-000.

Applicants: Arizona Public Service Company.

Description: Tariff Cancellation: Cancellation of Rate Schedule Nos. 281 and 263 to be effective 4/13/2020.

Filed Date: 2/12/20.

Accession Number: 20200212-5033.

Comments Due: 5 p.m. ET 3/4/20.

Docket Numbers: ER20-980-000.

Applicants: Alabama Power Company.

Description: § 205(d) Rate Filing: Blackwater Solar LGIA Filing to be effective 1/30/2020.

Filed Date: 2/12/20.

Accession Number: 20200212-5081.

Comments Due: 5 p.m. ET 3/4/20.

Docket Numbers: ER20-981-000.

Applicants: Alabama Power Company.

Description: § 205(d) Rate Filing: Sonny Solar LGIA Filing to be effective 1/30/2020.

Filed Date: 2/12/20.

Accession Number: 20200212-5082.

Comments Due: 5 p.m. ET 3/4/20.

Docket Numbers: ER20-982-000.

Applicants: Alabama Power Company.

Description: § 205(d) Rate Filing: Bird Dog Solar LGIA Filing to be effective 1/30/2020.

Filed Date: 2/12/20.

Accession Number: 20200212-5083.

Comments Due: 5 p.m. ET 3/4/20.

Docket Numbers: ER20-983-000.

Applicants: Alabama Power Company.

Description: § 205(d) Rate Filing: Wolfskin Solar LGIA Filing to be effective 1/30/2020.

Filed Date: 2/12/20.

Accession Number: 20200212-5085.

Comments Due: 5 p.m. ET 3/4/20.

Docket Numbers: ER20-984-000.

Applicants: PJM Interconnection, L.L.C.

Description: Tariff Cancellation: Cancel WMPAs SA#5128, 5260, 5374, 5375; Queue#AD1-156, AD1-160, AE1-027, AE1-028 to be effective 3/15/2020.

Filed Date: 2/12/20.

Accession Number: 20200212-5086.

Comments Due: 5 p.m. ET 3/4/20.

Docket Numbers: ER20-985-000.

Applicants: Arizona Public Service Company.

Description: Notice of Cancellation of Rate Schedule Nos. 200 and 216 of Arizona Public Service Company.

Filed Date: 2/12/20.

Accession Number: 20200212-5097.

Comments Due: 5 p.m. ET 3/4/20.

Docket Numbers: ER20-986-000.

Applicants: El Paso Electric Company.

Description: § 205(d) Rate Filing: Service Agreement No. 328, Assignment of LGIA from EDF to TEP to be effective 1/9/2020.

Filed Date: 2/12/20.

Accession Number: 20200212-5126.

Comments Due: 5 p.m. ET 3/4/20.

Docket Numbers: ER20-987-000.

Applicants: El Paso Electric Company.

Description: § 205(d) Rate Filing: Service Agreement No. 329, Assignment of LT Firm PTP TSA from EDF to TEP to be effective 1/9/2020.

Filed Date: 2/12/20.

Accession Number: 20200212-5130.

Comments Due: 5 p.m. ET 3/4/20.

Docket Numbers: ER20-988-000.

Applicants: El Paso Electric Company.

Description: § 205(d) Rate Filing: Service Agreement No. 330, Assignment of ST Firm PTP TSA from EDF to TEP to be effective 1/9/2020.

Filed Date: 2/12/20.

Accession Number: 20200212-5132.

Comments Due: 5 p.m. ET 3/4/20.

Docket Numbers: ER20-989-000.

Applicants: El Paso Electric Company.

Description: § 205(d) Rate Filing: Service Agreement No. 331, Assignment of LT Conditional Firm PTP TSA EDF to TEP to be effective 1/9/2020.

Filed Date: 2/12/20.

Accession Number: 20200212-5133.

Comments Due: 5 p.m. ET 3/4/20.

Docket Numbers: ER20-990-000.

Applicants: El Paso Electric Company.

Description: § 205(d) Rate Filing: Service Agreement No. 332, Assignment of ST Conditional Firm PTP TSA EDF to TEP to be effective 1/9/2020.

Filed Date: 2/12/20.

Accession Number: 20200212-5137.

Comments Due: 5 p.m. ET 3/4/20.

Take notice that the Commission received the following electric securities filings:

Docket Numbers: ES20-15-000.

Applicants: Cross-Sound Cable Company, LLC.

Description: Application Under Section 204 of the Federal Power Act for Authorization to Incur Obligations and Liabilities, et al. of Cross-Sound Cable Company, LLC.

Filed Date: 2/12/20.

Accession Number: 20200212-5088.

Comments Due: 5 p.m. ET 3/4/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 12, 2020.
Nathaniel J. Davis, Sr.,
Deputy Secretary.

[FR Doc. 2020-03383 Filed 2-19-20; 8:45 am]

BILLING CODE 6717-01-P